ENVIRONMENTAL PROTECTION AGENCY

[EPA-HQ-OPP-2015-0321; FRL-9941-08]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a June 16, 2015 Federal Register Notice of Receipt of Requests from the registrants listed in Table 2 of Unit II. to voluntarily cancel these product registrations. In the June 16, 2015 notice, EPA indicated that it would issue an order implementing the cancellations, unless the Agency received substantive comments within the 180-day comment period that would merit its further review of these requests, or unless the registrants withdrew their requests. The Agency received one comment on this notice from a registrant to withdraw one cancellation request. Also the following registration numbers were listed in the June 16, 2015 notice and already have been canceled by another Federal Register notice so are not listed in this notice: 4787-43, 4787-46, 5382-46, 5481-350, 5481-418, 5481-420, 5481-446, 21164-3, 21164-5, 71995-3, CA090010 and HI840004. Accordingly, EPA hereby issues in this notice a cancellation order granting the requested cancellations. Any distribution, sale, or use of the products subject to this cancellation order is permitted only in accordance with the terms of this order, including any existing stocks provisions.

DATES: The cancellations are effective January 22, 2016.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0321, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrant, of products registered under FIFRA section 3 (7 U.S.C. 136a). These registrations are listed in sequence by registration number in Table 1 of this unit.

Table 1—Product Cancellations
Registration No. | Company No. | Product name | Chemical name
100-793 | 100 | Mefenoxam E | Metalaxyl-M.
100-795 | 100 | Subdue WSP Fungicide | Metalaxyl-M.
100-801 | 100 | Ridomil Gold EC | Metalaxyl-M.
100-823 | 100 | Ridomil Gold PC GR | Metalaxyl-M; Pentachloronitrobenzene.
100-958 | 100 | Boundary Herbicide | Metribuzin; S-Metolachlor.
100-964 | 100 | Medal Herbicide | S-Metolachlor.
100-965 | 100 | Medal II Herbicide | S-Metolachlor.
100-1148 | 100 | Camix Selective Herbicide | Mesotrione; S-Metolachlor.
100-1165 | 100 | Brawn Herbicide | S-Metolachlor; Atrazine.
100-1217 | 100 | Gramoxone Inteon | Paraquat dichloride.
100-1227 | 100 | Ridomil Gold/Bravo Liquid Fungicide | Metalaxyl-M.
100-1243 | 100 | Quadris Gold | Azoxystrobin; Metalaxyl-M.
100-1316 | 100 | Cyclone Star | Carfentrazone-ethyl; Paraquat dichloride.
100-1360 | 100 | Cannonball WP | Fludioxonil.
264-685 | 264 | Option Corn Herbicide | Foramsulfuron.
264-771 | 264 | Domain | Flufenacet; Metribuzin.
352-793 | 352 | Dupont Imprelis Herbicide | Aminocyclopyrachlor potassium salt.
400-578 | 400 | Blizzard | Fluthiacet-methyl.
432-1403 | 432 | Prostar 1.5G | Flutolanil.
432-1408 | 432 | Super GT Fungicide | Iprodione.
432-1414 | 432 | 26/36 Fungicide | Iprodione; Thiophanate-methyl.
432-1476 | 432 | Tiberon 2.8% SC | Cyclanilide.
432-1486 | 432 | Reserve Fungicide | Triticonazole; Chlorothalonil.
1021-565 | 1021 | Pyrocide Concentrate 5792 | Pyrethrins; Piperonyl butoxide; MGK 264.
1021-1164 | 1021 | Pyrocide Intermediate 7070 | Pyrethrins; Piperonyl butoxide; MGK 264.
1021-1437 | 1021 | Multicide Intermediate 2232 | Tetramethrin; Phenothrin.
1021-1465 | 1021 | Multicide Mosquito Adulticiding Concentrate 2271 | Phenothrin.
1021-1582 | 1021 | Evercide Vegetable and Garden Insect Killer 2526 | Esfenvalerate.
1021-1611 | 1021 | Pyrocide Intermediate 51 | Pyrethrins; Piperonyl butoxide.
1021-1626 | 1021 | Evergreen Concentrate 7397 | Pyrethrins; Piperonyl butoxide.
1021-1643 | 1021 | Evercide Emulsifiable Concentrate 2667 | Esfenvalerate.
1021-1655 | 1021 | Evercide Concentrate 2625 | Prallethrin; Esfenvalerate.
1021-1656 | 1021 | Evercide Nylar Total Release Aerosol 2644 | Prallethrin; Esfenvalerate; Pyriproxyfen.
1021-1657 | 1021 | Nylar Concentrate 2631 | Pyriproxyfen.
1021-1660 | 1021 | Nylar 10% Concentrate 2637 | Pyriproxyfen.
1021-1676 | 1021 | Evercide Total Release Aerosol 2615 | Pyrethrins; Enfenvalerate; Piperonyl butoxide; MGK 264; Pyriproxyfen.
1021-1683 | 1021 | Multicide Intermediate 2737 | Prallethrin; Cyphenothrin; MGK 264.
1021-1684 | 1021 | Multicide Total Release Aerosol 27371 | Prallethrin; Cyphenothrin; MGK 264.
1021-1718 | 1021 | ETOC Fogging Concentrate 2764 | Prallethrin.
1021-1731 | 1021 | MGK Roach Trap | 2-Cyclopenten-1-one, 2-hydroxy-3-methyl-.
1021-1752 | 1021 | Evercide Esfenvalerate 35% W.P. MUP 2787 | Esfenvalerate.
1021-1756 | 1021 | Evercide Residual Roach and Ant Spray 27692 | Esfenvalerate; Imiprothrin; MGK 264.
1021-1757 | 1021 | Evercide Residual Roach and Ant Spray 27691 | Esfenvalerate; Imiprothrin; MGK 264.
1021-1765 | 1021 | Multicide Multi-Purpose Spray 27373 | Prallethrin; Cyphenothrin; MGK 264.
1021-1768 | 1021 | Multicide Wasp & Hornet Spray 27301 | Prallethrin; MGK 264.
1021-1769 | 1021 | Multicide Intermediate 2730 | Prallethrin; MGK 264.
1021-1781 | 1021 | Evercide(R) Emulsifiable Concentrate 28051 | Esfenvalerate.
1021-1782 | 1021 | Evercide Emulsifiable Concentrate 2805 MUP | Esfenvalerate.
1021-1789 | 1021 | Evercide Concentrate 2801 | Prallethrin; Permethrin; MGK 264.
1021-1793 | 1021 | Evercide Concentrate 26621 MUP | Esfenvalerate.
1021-1794 | 1021 | Evercide Esfenvalerate 10MC | Esfenvalerate.
1021-1804 | 1021 | Evercide(R) Industrial Spray 27524 | Esfenvalerate.
1021-1809 | 1021 | Evercide Total Release Fogger 24601 | Pyrethrins; MGK 264; Permethrin.
1021-1811 | 1021 | Multicide Fogging Concentrate 2611 MUP | Prallethrin; Piperonyl butoxide; MGK 264.
1021-1831 | 1021 | Evercide Total Release Fogger 24602 | Pyrethrins; MGK 264; Permethrin.
1021-1877 | 1021 | Dry Pyganic Pro | Pyrethrins.
1021-2555 | 1021 | MGK F-2929 | Bifenthrin.
1021-2632 | 1021 | Tetraperm Wasp & Hornet Killer FEQ 24 | Tetramethrin; Permethrin; Piperonyl butoxide.
1021-2633 | 1021 | Tetraperm Crawling Insect Killer FEQ 23 | Tetramethrin; Permethrin; Piperonyl butoxide.
1021-2637 | 1021 | Tetraperm Crawling Insect Killer WBA Q3 | Tetramethrin; Permethrin; Piperonyl butoxide.
1021-2638 | 1021 | Tetraperm Total Release Indoor Fogger Q3 | Tetramethrin; Permethrin; Piperonyl butoxide.
1021-2641 | 1021 | Tetraperm Total Release Indoor Fogger Q5 | Tetramethrin; Permethrin; Piperonyl butoxide.
1021-2642 | 1021 | Tetraperm Crawling Insect Killer WBA Q5 | Tetramethrin; Permethrin; Piperonyl butoxide.
1021-2643 | 1021 | Permanone Total Release Aerosol | Permethrin.
1021-2648 | 1021 | D100 Insecticide | Deltamethrin.
1021-2655 | 1021 | Ultratec HPC 1 | Deltamethrin.
1021-2664 | 1021 | Pyrenone Industrial Spray Emulsifiable Concentrate | Pyrethrins; Piperonyl butoxide.
1021-2665 | 1021 | Pyrenone General Purpose Household Spray | Pyrethrins; Piperonyl butoxide.
1021-2672 | 1021 | Pyrenone Multi-Purpose Insecticide | Pyrethrins; Piperonyl butoxide.
1021-2677 | 1021 | Pyrenone Pet Spray | Pyrethrins; Piperonyl butoxide.
1021-2686 | 1021 | Permanone General Purpose Aqueous Insecticide | Permethrin.
1021-2691 | 1021 | Tetraperm Indoor Insect Killer N104 WBA | Permethrin; Tetramethrin; Piperonyl butoxide.
1021-2696 | 1021 | Tetraperm Total Release Indoor Fogger N104 | Permethrin; Tetramethrin; Piperonyl butoxide.
1021-2698 | 1021 | Tetraperm .2+.2 CIK Household Insect Killer | Permethrin; Tetramethrin; Piperonyl butoxide.
1021-2700 | 1021 | Pyraperm Household Insect Killer WBA P60 | Pyrethrins; Permethrin; Piperonyl butoxide.
1021-2702 | 1021 | Pyraperm Total Release Indoor Fogger WBA P60 | Pyrethrins; Permethrin; Piperonyl butoxide.
1021-2703 | 1021 | Pyraperm Household Insect Killer WBA P61 | Pyrethrins; Permethrin; Piperonyl butoxide.
1021-2704 | 1021 | Pyraperm Industrial Insect Killer WBA P61 | Pyrethrins; Permethrin; Piperonyl butoxide.
1021-2705 | 1021 | Pyraperm Total Release Indoor Fogger WBA P61 | Pyrethrins; Permethrin; Piperonyl butoxide.
1021-2708 | 1021 | Pyraperm Total Release Indoor Fogger WBA P59 | Pyrethrins; Permethrin; Piperonyl butoxide.
1021-2719 | 1021 | Aqueous Pyrenone Garden Spray | Pyrethrins; Piperonyl butoxide.
1021-2723 | 1021 | Pramix Dust (0.25) | Permethrin.
1021-2727 | 1021 | RUC-415 Insecticide | Deltamethrin.
1021-2744 | 1021 | Pyrenone 30-3 Insecticide | Pyrethrins; Piperonyl butoxide.
1021-2745 | 1021 | Tetraperm TRA | Tetramethrin; Permethrin; Piperonyl butoxide.
1021-2746 | 1021 | Tetraperm AS TRA | Tetramethrin; Permethrin; Piperonly butoxide; Triethylene glycol.
1021-2749 | 1021 | Pramex TC Plus | Permethrin.
1021-2750 | 1021 | S-Fen 10MC | Esfenvalerate.
1021-2751 | 1021 | Ultratec 5% TRA Concentrate | Deltamethrin.
1021-2757 | 1021 | Tetraperm 10-10 Concentrate | Permethrin; Tetramethrin.
1021-2758 | 1021 | Tetraperm 11 WB Wasp, Hornet & Yellow Jacket Killer | Permethrin; Tetramethrin.
1021-2759 | 1021 | Tetraperm 22 WB Wasp, Hornet & Yellow Jacket Killer | Permethrin; Tetramethrin.
1021-2766 | 1021 | Pramex 11.55% MUP | Permethrin.
1021-2768 | 1021 | Pyrenone 0.5-2.5 Space Spray | Pyrethrins; Piperonyl butoxide.
1021-2770 | 1021 | Pyrenone 1-5 Space Spray | Pyrethrins; Piperonyl butoxide.
1021-2777 | 1021 | S-FEN 40% Concentrate | Esfenvalerate.
1021-2778 | 1021 | S-FEN 0.25% Spray | Esfenvalerate.
1448-53 | 1448 | Busan 881 | Carbamodithioic acid, cyano-, disodium salt; Metam-Potassium.
1448-84 | 1448 | Busan 1014 | Oxydiethylenebis(alkyl* dimethyl ammonium chloride) *(as in fatty acids of coconut oil).
1448-115 | 1448 | NM-875-11 | Carbamodithioic acid, cyano-, disodium salt; Metam-Potassium.
1448-128 | 1448 | NM-35-1 | Carbamodithioic acid, cyano-, disodium salt; Metam-Potassium.
1448-180 | 1448 | NM-175-1 | Carbamodithioic acid, cyano-, disodium salt; Metam-Potassium.
1448-185 | 1448 | D-10-1 | Potassium dimethyldithiocarbamate.
1448-265 | 1448 | B-30-6 | 2-(Thiocyanomethylthio)benzothiazole.
1448-347 | 1448 | Alstar Non-Foaming Algaecide | Poly(oxy-1,2-ethanediyl(dimethylimino)-1,2-ethanediyl(dimethylimino)-1,2-ethanediyl dichloride).
1448-351 | 1448 | Busan 1104 | 1H-Pyrazole-1-methanol, 3,5-dimethyl-.
1448-382 | 1448 | NABE-M | Carbamodithioic acid, cyano-, disodium salt; Metam-Potassium.
1448-399 | 1448 | Busan 1211 | Ethanone, 2-bromo-1-(4-hydroxyphenyl)-.
1677-191 | 1677 | ECO2000-GR | Boric acid.
1706-217 | 1706 | H-940 Microbiocide | Sodium bromide.
2935-550 | 2935 | Nubark Mancozeb AS | Streptomycin sulfate; Mancozeb.
3282-32 | 3282 | Wincon Warfarin Technical | Warfarin.
3282-96 | 3282 | D-Con Bait Station VII | Bromethalin.
3282-97 | 3282 | D-Con Bait Station VIII | Bromethalin.
3282-106 | 3282 | Hyperactive | Indoxacarb.
3282-107 | 3282 | Silent | Esfenvalerate.
3282-108 | 3282 | Creepy | Esfenvalerate; Imiprothrin; MGK 264.
3282-109 | 3282 | Mandible | Indoxacarb.
3282-110 | 3282 | Difethialone Mini Blocks | Difethialone.
5813-14 | 5813 | Formula 409 Disinfectant Bathroom Cleaner I | Quaternary ammonium compounds.
5813-16 | 5813 | Clorox Cleaner | Quaternary ammonium compounds.
5813-17 | 5813 | Formula 409 Disinfectant Bathroom Cleaner | Quaternary ammonium compounds.
5813-22 | 5813 | Entire | Quaternary ammonium compounds.
5813-26 | 5813 | Lemon-Sol Cleaner-Disinfectant | Quaternary ammonium compounds.
5813-29 | 5813 | Lemon-Sol Household Cleaner & Disinfectant | Quaternary ammonium compounds.
5813-30 | 5813 | Pine-Sol Household Cleaner | Quaternary ammonium compounds; Pine oil.
5813-37 | 5813 | Pine-Sol Multi-Purpose Spray Cleaner | Quaternary ammonium compounds; Pine oil.
5813-38 | 5813 | Pine-Sol Spray 18488 | Quaternary ammonium compounds.
5813-39 | 5813 | Pine-Sol Spray 18864 | Quaternary ammonium compounds.
5813-55 | 5813 | Clorox RTU-C | Quaternary ammonium compounds.
5813-62 | 5813 | Clorox 409-P | Quaternary ammonium compounds.
5813-75 | 5813 | Clorox Trapeze | Poly(hexamethylenebiguanide hydrochloride).
5813-77 | 5813 | CDWII | Poly(hexamethylenebiguanide hydrochloride).
5813-78 | 5813 | CTW | Poly(hexamethylenebiguanide hydrochloride).
6836-71 | 6836 | Lonza Formulation Y-59 | Quaternary ammonium compounds.
10163-247 | 10163 | Flutolanil Technical | Flutolanil.
11556-167 | 11556 | Endalfly Insecticide Cattle Ear Tag | Endosulfan.
35935-52 | 35935 | Tribenuron Technical | Tribenuron-methyl.
39967-98 | 39967 | N-1386 Naphtha HAN | Bis(trichloromethyl) sulfone.
39967-104 | 39967 | P-1 Preservative Solution | o-Phenylphenol, sodium salt.
48273-27 | 48273 | Marman Herbiquat Herbicide | Paraquat dichloride.
56392-1 | 56392 | Precise Hospital Foam Cleaner Disinfectant | o-Phenylphenol.
56392-2 | 56392 | Citrace Hospital Germicidal Deodorizer | o-Phenylphenol; Ethanol.
56392-4 | 56392 | Citrex Hospital Spray Disinfectant | o-Phenylphenol; Ethanol.
57787-4 | 57787 | Liquichlor Bleach | Sodium hypochlorite.
57787-20 | 57787 | Algae Inhibitor | Quaternary ammonium compounds.
57787-21 | 57787 | Silver Algaecide | Silver.
66330-307 | 66330 | Metsulfuron 60EG IVM | Metsulfuron.
66330-308 | 66330 | Metsulfuron 60EG Turf | Metsulfuron.
66330-309 | 66330 | Metsulfuron Methyl Technical | Metsulfuron.
66330-310 | 66330 | Metsulfuron 60EG AG | Metsulfuron.
66330-384 | 66330 | Audit 75 WDG Herbicide | Tribenuron-methyl; Thifensulfuron.
66330-390 | 66330 | Shooter Insecticide | Deltamethrin; Geraniol; Oil of thyme.
67619-2 | 67619 | CPPC 409 | Quaternary ammonium compounds.
67619-23 | 67619 | CPPC CDQ | Quaternary ammonium compounds.
69129-1 | 69129 | Nexa Cedarwood Oil Moth Protection | Cedarwood oil.
69681-17 | 69681 | Clor Mor Perfect Shock 45 | Sodium dichloro-s-triazinetrione.
69681-18 | 69681 | Clor Mor Perfect Shock 15 | Sodium dichloro-s-triazinetrione.
71654-11 | 71654 | Dupont Simple Pool Care Sanitizer Chlorinating Granules | Sodium dichloroisocyanurate dihydrate.
71654-12 | 71654 | Dupont Simple Pool Care Sanitizer [3″][1″] Chlorinating Tablets | Trichloro-s-triazinetrione.
71654-13 | 71654 | Dupont Spa Care Sanitizer Brominating Tablets | 1,3-Dichloro-5-ethyl-5-methylhydantoin; 1,3-Dichloro-5,5-dimethylhydantoin; Halobrom.
81927-32 | 81927 | Alligare Volt Herbicide | Pyraflufen-ethyl; Glyphosate-isopropylammonium.
AL050002 | 100 | Caparol 4L | Prometryn.
AL090003 | 62719 | Milestone VM | Triisopropanolamine salt of aminopyralid.
AR010004 | 279 | Command 3ME Microencapsulated Herbicide | Clomazone.
AR080002 | 279 | Spartan 4F | Sulfentrazone.
AR100004 | 62719 | Milestone VM | Triisopropanolamine salt of aminopyralid.
AR140002 | 524 | Mon 63410 Herbicide | Acetochlor.
AZ060004 | 10163 | Eptam 7-E | Carbamothioic acid, dipropyl-, S-ethyl ester.
CA000003 | 279 | Capture 2EC-Cal Insecticide/Miticide | Bifenthrin.
CA020004 | 279 | Capture 2EC-Cal Insecticide/Miticide | Bifenthrin.
CA060009 | 1677 | Tsunami 100 | Hydrogen peroxide; Ethaneperoxoic acid.
CA080005 | 10163 | Onager Miticide | Hexythiazox.
CA110007 | 10163 | Supracide 2E Insecticide | Methidathion.
CA940002 | 10163 | Gowan Trifluralin 10G | Trifluralin.
CA940003 | 10163 | Gowan Trifluralin 10G | Trifluralin.
CA970036 | 59639 | Valent Bolero 10 G | Thiobencarb.
CO060003 | 264 | Radius Herbicide | Isoxaflutole; Flufenacet.
CO080006 | 264 | Ethrel Brand Ethephon Plant Regulator | Ethephon.
CO100001 | 279 | Mustang Max Insecticide | Zeta-Cypermethrin.
CT080001 | 70506 | Dupont Manzate Pro-Stick Fungicide | Mancozeb.
CT090001 | 70506 | Penncozeb 75 DF | Mancozeb.
DC030001 | 34704 | Sprout Nip Emulsifiable Concentrate | Chlorpropham.
FL000006 | 100 | Reward Landscape and Aquatic Herbicide | Diquat dibromide.
FL110008 | 62719 | Milestone VM | Triisopropanolamine salt of aminopyralid.
GA080001 | 279 | Brigade 2EC Insecticide/Miticide | Bifenthrin.
GA080008 | 59639 | Chateau WDG Herbicide | Flumioxazin.
HI030002 | 66222 | Thiodex 3 EC Insecticide | Endosulfan.
HI030007 | 352 | Dupont Hyvar X Herbicide | Bromacil.
HI090003 | 62719 | Goaltender | Oxyfluorfen.
IA090001 | 241 | Respect EC Insecticide | Zeta-Cypermethrin.
IA100002 | 7969 | Z-Cype 0.8 EC Insecticide | Zeta-Cypermethrin.
IA890002 | 59639 | Cobra Herbicide | Lactofen.
ID030008 | 5481 | Blocker (TM) 4F | Pentachloronitrobenzene.
ID080004 | 400 | Temprano | Abamectin.
ID100001 | 279 | Mustang Max Insecticide | Zeta-Cypermethrin.
ID910001 | 62719 | Treflan TR-10 | Trifluralin.
KS960001 | 59639 | Select 2EC Herbicide | Clethodim.
KY100001 | 100 | Dual Magnum Herbicide | S-Metolachlor.
KY120016 | 241 | Prowl H2O Herbicide | Pendimethalin.
LA020002 | 62719 | Goal 2XL Herbicide | Gas cartRidge (as a device for burrowing animal control); Oxyfluorfen.
LA020005 | 62719 | Delta Goal | Oxyfluorfen.
LA050003 | 279 | Mustang Insecticide | Zeta-Cypermethrin.
LA070003 | 53883 | Bifen XTS Insecticide/termiticide | Bifenthrin.
LA070004 | 279 | Brigade 2EC Insecticide/Miticide | Bifenthrin.
LA080008 | 53883 | Bifen XTS | Bifenthrin.
LA080009 | 53883 | Dominion 2L | Imidacloprid.
LA080010 | 53883 | Bifenthrin I/T Insecticide/Termiticide | Bifenthrin.
LA140001 | 524 | Mon 63410 Herbicide | Acetochlor.
MD080003 | 352 | Dupont Vydate C-LV Insecticide/Nematicide | Oxamyl.
MN010005 | 59639 | Select 2EC Herbicide | Clethodim.
MN100001 | 279 | Z-Cype 0.8 EC Insecticide | Zeta-Cypermethrin.
MN110004 | 62719 | Milestone VM | Triisopropanolamine salt of aminopyralid.
MO000001 | 59639 | Select 2EC Herbicide | Clethodim.
MO040001 | 62719 | Strongarm | Diclosulam.
MO050005 | 264 | Radius Herbicide | Isoxaflutole; Flufenacet.
MO140005 | 524 | Mon 63410 Herbicide | Acetochlor.
MO140006 | 524 | Mon 63410 Herbicide | Acetochlor.
MS010009 | 100 | ZPP 1560 Herbicide | Gas cartRidge (as a device for burrowing animal control); Glyphosate.
MS020017 | 62719 | Goal 2XL Herbicide | Oxyfluorfen.
MS040010 | 53883 | Glyphosate 41% | Glyphosate-isopropylammonium.
MS040013 | 100 | Touchdown Total | Glyphosate.
MS040014 | 100 | Touchdown Hitech Herbicide | Glyphosate.
MS040015 | 100 | Touchdown Pro Herbicide | Glyphosate.
MS050012 | 100 | Caparol 4L | Prometryn.
MS050021 | 100 | Gramoxone Inteon | Paraquat dichloride.
MS080001 | 279 | Brigade 2EC Insecticide/Miticide | Bifenthrin.
MS090002 | 7969 | Termidor 80 WG Termiticide/insecticide | Fipronil.
MS090003 | 7969 | Termidor SC Termiticide/insecticide | Fipronil.
MS090008 | 62719 | Milestone VM | Triisopropanolamine salt of aminopyralid.
MS140001 | 524 | Mon 63410 Herbicide | Acetochlor.
MT100001 | 279 | Mustang Max Insecticide | Zeta-Cypermethrin.
NC070002 | 279 | Brigade 2EC | Bifenthrin.
ND020002 | 59639 | Select 2EC Herbicide | Clethodim.
ND100003 | 279 | Mustang Max Insecticide | Zeta-Cypermethrin.
ND110004 | 352 | Dupont Express Herbicide with Totalsol Soluble Granules | Tribenuron-methyl.
NE030002 | 62719 | Propimax EC | Propiconazole.
NE040001 | 279 | Mustang Max | Zeta-Cypermethrin.
NE080004 | 7969 | Respect EC Insecticide | Zeta-Cypermethrin.
NE100004 | 7969 | Respect Insecticide | Zeta-Cypermethrin.
NJ070002 | 70506 | Devrinol 50-DF | Napropamide.
NM040003 | 62719 | Lock-On | Chlorpyrifos.
NM100003 | 70506 | Devrinol 50-DF Selective Herbicide | Napropamide.
NV010005 | 62719 | Laredo EC | Myclobutanil.
NV080002 | 400 | Temprano | Abamectin.
NV080004 | 62719 | Lorsban Advanced | Chlorpyrifos.
NY080001 | 352 | Dupont Vydate C-LV Insecticide/Nematicide | Oxamyl.
NY110006 | 10163 | GWN-3061 | Halosulfuron-methyl.
OH100003 | 279 | Mustang Max Insecticide | Zeta-Cypermethrin.
OK080001 | 279 | Brigade 2EC Insecticide/Miticide | Bifenthrin.
OK080003 | 279 | Spartan 4F Herbicide | Sulfentrazone.
OR030015 | 5481 | Blocker (TM) 4F | Pentachloronitrobenzene.
OR070015 | 279 | Brigade 2EC Insecticide/Miticide | Bifenthrin.
OR100001 | 279 | Z-Cype 0.8 EC Insecticide | Zeta-Cypermethrin.
OR940049 | 10163 | Imidan 70-WP Agricultural Insecticide | Phosmet.
OR970024 | 62719 | Stinger | Clopyralid, monoethanolamine salt.
PA070002 | 352 | Dupont Vydate C-LV Insecticide/Nematicide | Oxamyl.
PA110002 | 352 | Dupont Assure II Herbicide | Quizalofop-p-ethyl.
PR040006 | 50534 | Bravo Weatherstik | Chlorothalonil.
SC080001 | 7969 | G-Max Lite | Dimethenamide-P; Atrazine.
SC080003 | 279 | Brigade 2EC Insecticide/Miticide | Bifenthrin.
SC090004 | 62719 | Milestone VM | Triisopropanolamine salt of aminopyralid.
SC110004 | 8329 | Natular 2EC | Spinosad.
SD090005 | 241 | Journey Herbicide | Imazapic; Glyphosate-isopropylammonium.
SD100002 | 7969 | Integrity Herbicide | Saflufenacil; Dimethenamide-P.
SD130006 | 524 | Mon 63410 Herbicide | Acetochlor.
TN040005 | 62719 | Strongarm | Diclosulam.
TN070005 | 62719 | Dithane DF Rainshield | Mancozeb.
TN080001 | 279 | Spartan 4F | Sulfentrazone.
TN080012 | 352 | Dupont Accent Herbicide | Nicosulfuron.
TX060020 | 62719 | Enable 2F | Fenbuconazole.
TX070001 | 279 | Command 3ME Herbicide | Clomazone.
TX090001 | 10163 | Imidan 70-W | Phosmet.
TX110002 | 62719 | Milestone VM | Triisopropanolamine salt of aminopyralid.
TX140003 | 524 | Mon 63410 Herbicide | Acetochlor.
TX930009 | 59639 | Select 2EC Herbicide | Clethodim.
UT100001 | 59639 | Chateau WDG Herbicide | Flumioxazin.
VA100004 | 62719 | Milestone VM | Triisopropanolamine salt of aminopyralid.
VA110003 | 62719 | Milestone VM | Triisopropanolamine salt of aminopyralid.
VA130001 | 5481 | Vapam HL Soil Fumigant | Metam-sodium.
VA130002 | 5481 | AMV 540 | Metam-Potassium.
VA830012 | 5481 | Stauffer Vapam 4-S Soil Fumigant Solution | Metam-sodium.
WA010019 | 10163 | Imidan 70-W Agricultural Insecticide | Phosmet.
WA010026 | 10163 | Hexygon WDG | Hexythiazox.
WA020026 | 62719 | Laredo EC | Myclobutanil.
WA030031 | 10163 | Imidan 70-W Agricultural Insecticide | Phosmet.
WA040032 | 71711 | Moncut 70-DF | Flutolanil.
WA070016 | 279 | Brigade 2EC Insecticide/Miticide | Bifenthrin.
WA080002 | 66330 | Iprodione 4L AG | Iprodione.
WA080005 | 66330 | Iprodione 4L AG | Iprodione.
WA100003 | 59639 | Chateau Herbicide WDG | Flumioxazin.
WA110009 | 66330 | Dimethoate 4E | Dimethoate.
WA120003 | 71021 | Formaldehyde Solution 37 | Formaldehyde.
WI030003 | 62719 | Stinger | Clopyralid.
WI050001 | 62719 | Stinger | Clopyralid, monoethanolamine salt.
WI070005 | 352 | Do Pont Vydate L Insecticide/Nematicide | Oxamyl.
WI080002 | 62719 | Stinger | Clopyralid, monoethanolamine salt.
WV140001 | 62719 | Enable 2F | Fenbuconazole.
WY040002 | 53883 | Glyphosate 41% | Glyphosate-isopropylammonium.
WY100001 | 279 | Mustang Max Insecticide | Zeta-Cypermethrin.
WY100005 | 59639 | Chateau WDG Herbicide | Flumioxazin.

Table 2 of this unit includes the names and addresses of record for all registrants of the products in Table 1 of this unit, in sequence by EPA company number. This number corresponds to the first part of the EPA registration numbers of the products listed in Table 1 of this unit.

Table 2—Registrants of Canceled Products
EPA Company No. | Company name and address
100 | Syngenta Crop Protection, LLC, PO Box 18300, Greensboro, NC 27419.
241 | BASF Corporation, PO Box 13528, Research Triangle Park, NC 27709.
264 | Bayer Cropscience LP, PO Box 12014, Research Triangle Park, NC 27709
279 | FMC Corp. Agricultural Products Group, 1735 Market St., Rm 1978, Philadelphia, PA 19103.
352 | E. I. Du Pont de Nemours and Company, 1007 Market Street, Wilmington, DE 19898.
400 | MacDermid Agricultural Solutions, Inc., 245 Freight Street, Waterbury, CT 06702.
432 | Bayer Environmental Science, A Division of Bayer Cropscience, LP, PO Box 12014, Research Triangle Park, NC 27709.
524 | Monsanto Company, 1300 I Street, NW, Suite 450 East, Washington, DC 20005.
1021 | Mclaughlin Gormley King Company, D/B/A MGK, 8810 Tenth Avenue North, Minneapolis, MN 55427.
1448 | Buckman Laboratories, Inc., 1256 North McLean Blvd., Memphis, TN 38108.
1677 | Ecolab, Inc., 370 North Wabasha Street, St. Paul, MN 55102.
1706 | Ecolab, Inc., Agent for: Nalco Company, 370 North Wabasha Street, St. Paul, MN 55102.
2935 | Wilbur-Ellis Company, 2903 S. Cedar Avenue, Fresno, CA 93725.
3282 | Reckitt Benckiser, LLC, D/B/A Reckitt Benckiser, 399 Interpace Parkway, Parsippany, NJ 07054.
5481 | Amvac Chemical Corporation, 4695 Macarthur Court, Suite 1200, Newport Beach, CA 92660.
5813 | The Clorox Co., c/o PS&RC, PO Box 493, Pleasanton, CA 94566.
6836 | Lonza, Inc, 90 Boroline Road, Allendale, NJ 07401.
7969 | BASF Corporation, Agricultural Products, PO Box 13528, Research Triangle Park, NC 27709.
8329 | Clarke Mosquito Control Products, Inc., 675 Sidwell Court, St. Charles, IL 60174.
10163 | Gowan Company, PO Box 5569, Yuma, AZ 85366.
11556 | Bayer Healthcare, LLC, Animal Health Division, PO Box 390, Shawnee Mission, KS 66201.
34704 | Loveland Products, Inc., PO Box 1286, Greeley, Co 80632.
35935 | Nufarm Americas Inc., 4020 Aerial Center Pkwy., Suite 101, Morrisville, NC 27560.
39967 | Lanxess Corporation, 111 RIDC Park West Drive, Pittsburgh, PA 15275.
48273 | Nufarm, Inc., Agent For: Marman Usa, Inc, 4020 Aerial Center Pkwy., Suite 101, Morrisville, NC 27560.
50534 | GB Biosciences Corporation, PO Box 18300, Greensboro, NC 27419.
53883 | Control Solutions, Inc., 5903 Genoa-Red Bluff Road, Pasadena, TX 77507.
56392 | Clorox Professional Products Company, c/o PS&RC, PO Box 493, Pleasanton, CA 94566.
57787 | Haviland Consumer Products, Inc., D/B/A Haviland Consumer Products, 421 Ann Street, NW, Grand Rapids, MI 49504.
59639 | Valent U.S.A. Corporation, 1600 Riviera Avenue, Suite 200, Walnut Creek, CA 94596.
62719 | Dow Agrosciences, LLC, 9330 Zionsville Road, Indianapolis, IN 46268.
66222 | Makhteshim Agan of North America, Inc., D/B/A Adama, 3120 Highwoods Blvd., Suite 100, Raleigh, NC 27604.
66330 | Arysta Lifescience North America, LLC, 15401 Weston Parkway, Suite 150, Cary, NC 27513.
67619 | Clorox Professional Products Company, c/o PS&RC, PO Box 493, Pleasanton, CA 94566.
69129 | The Scotts Company, Agent for: Celaflor GMBH, 14111 Scottslawn Road, Marysville, OH 43041.
69681 | Allchem Performance Products, 6010 NW First Place, Gainesville, FL 32607.
70506 | United Phosphorus, Inc., 630 Freedom Business Center, Suite 402, King Of Prussia, PA 19406.
71021 | Ecolab, Inc., Agent for: Corsicana Technologies, Inc., 370 North Wabasha Street, St. Paul, MN 55102.
71654 | The Chemours Company FC, LLC, 1007 Market Street, Wilmington, DE 19898.
71711 | Nichino America, Inc., 4550 New Linden Hill Road, Suite 501, Wilmington, DE 19808.
81927 | Pyxis Regulatory Consulting, Inc., Agent for: Alligare, LLC, 4110 136th St., NW, Gig Harbor, WA 98332.

III. Summary of Public Comments Received and Agency Response to Comments

During the public comment period, EPA received one comment. The comment was from AMVAC Chemical Corporation requesting that EPA Reg. No. WA090021 be retained because the voluntary cancellation request was made in error. As a result of this comment, the Agency is retaining the registration of EPA Reg. No. WA090021.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is January 22, 2016. Any distribution, sale, or use of existing stocks of the products identified in Table 1 of Unit II. in a manner inconsistent with any of the provisions for disposition of existing stocks set forth in Unit VI. will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 16, 2015 (80 FR 34408) (FRL-9928-13). The comment period closed on December 14, 2015.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 15, 2016 or the date of publication of this Federal Register notice, whichever is later. Thereafter, the registrants are prohibited from selling or distributing products listed in Table 1, except for export in accordance with FIFRA section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

Authority: 7 U.S.C. 136 et seq.

Dated: January 7, 2016.
Mark A. Hartman,
Director, Information Technology and Resources Management Division, Office of Pesticide Programs.

[FR Doc. 2016-01310 Filed 1-21-16; 8:45 am]

BILLING CODE 6560-50-P